DEPARTMENT OF AGRICULTURE

Natural Resources Conservation Service

Little Otter Creek Watershed, Caldwell County, MO

AGENCY: Natural Resources Conservation Service, USDA.

ACTION: Notice of availability of record of decision.

SUMMARY: Roger A. Hansen, responsible federal official for projects administered under the provisions of Public Law 83-566, 16 U.S.C. 1001-1008, in the State of Missouri, is hereby providing notification that a record of decision to proceed with the installation of the Little Otter Creek Watershed project is available. Single copies of this record of decision may be obtained from Roger A. Hansen at the address shown below.

FOR FURTHER INFORMATION CONTACT: Roger A. Hansen, State Conservationist, Natural Resources Conservation Service, Parkade Center, Suite 250, 601 Business Loop 70 West, Columbia, Missouri 65203, (573) 876-0901.

SUPPLEMENTARY INFORMATION: The project purposes are to provide agricultural water management (rural water supply); fish, wildlife, and recreational development; and flood control. The planned works of improvement include: One multiple-purpose reservoir, a water intake structure, a raw water line, and recreational facilities.

No administrative action on implementation of the proposal will be taken until 30 days after the date of this publication in the Federal Register.

(This activity is listed in the Catalog of Federal Domestic Assistance under NO. 10.904, Watershed Protection and Flood Prevention, and is subject to the provisions of Executive Order 12372, which requires intergovernmental consultation with State and local officials.)
Dated: April 22, 2003.
Roger A. Hansen,
State Conservationist.

[FR Doc. 03-11039 Filed 5-2-03; 8:45 am]

BILLING CODE 3410-16-P